DEPARTMENT OF ENERGY

Federal Energy Regulatory Commission

[Project No. 2114-116]

Public Utility District No. 2 of Grant County, WA; Notice of Availability of the Draft Environmental Impact Statement for the Priest Rapids Hydroelectric Project

February 28, 2006.

In accordance with the National Environmental Policy Act of 1969 and the Federal Energy Regulatory Commission's (Commission) regulations, 18 CFR Part 380 (Order No. 486, 52 FR 47897), the Office of Energy Projects has reviewed the application for a new license for the Priest Rapids Hydroelectric Project No. 2114-116, located on the mid-Columbia River, near the city of Ellensburg, in portions of Grant, Yakima, Kittitas, Douglas, Benton, and Chelan Counties, Washington, and has prepared a draft Environmental Impact Statement (DEIS) for the project.

In the DEIS, Commission staff evaluate the applicant's proposal and the alternatives for licensing the proposed project. The DEIS documents the views of governmental agencies, non-governmental organizations, affected Indian tribes, the public, the license applicant, and Commission staff.

Comments should be filed with Magalie R. Salas, Secretary, Federal Energy Regulatory Commission, 888 First Street, NE., Washington, DC 20426. All comments must be filed by May 2, 2006, and should reference Project No. 2114-116. Comments may be filed electronically via the Internet in lieu of paper. The Commission strongly encourages electronic filings. See 18 CFR 385.2001(a)(1)(iii) and instructions on the Commission's Web site at “e-Library” http://www.ferc.gov under the link.

The Commission staff will consider comments made on the DEIS in preparing a final Environmental Impact Statement (FEIS) for the project, which we expect to issue in August of this year. Before the Commission makes a licensing decision, it will take into account all concerns relevant to the public interest. The FEIS will be part of the record from which the Commission will make its decision.

Copies of the DEIS are available for review at the Commission's Public Reference Room or may be viewed on the Commission's Web site at http://www.ferc.gov using the “e-Library” link. Enter the docket number, excluding the last three digits in the docket number field, to access the document. For assistance, contact FERC Online Support at FERCOnlineSupport@ferc.gov or toll-free at 1-866-208-3676, or for TTY (202) 502-8659.

You may also register online at http://www.ferc.gov/docs-filing/esubscription.asp to be notified via e-mail of new filings and issuances related to this or other pending projects. For assistance, contact FERC Online Support.

For further information, contact Charles Hall at (202) 502-6853 or at charles.hall@ferc.gov.

Magalie R. Salas,
Secretary.

[FR Doc. E6-3200 Filed 3-7-06; 8:45 am]

BILLING CODE 6717-01-P